DEPARTMENT OF ENERGY

Federal Energy Regulatory Commission

[Docket No. CP13-502-003]

Iroquois Gas Transmission System, L.P.; Notice of Petition and Establishing Intervention Deadline

Take notice that on February 13, 2026, Iroquois Gas Transmission System, L.P. (Iroquois), One Corporate Drive, Suite 600, Shelton, Connecticut 06484, filed a petition under section 7(c) of the Natural Gas Act (NGA) and Part 157 of the Commission's regulations seeking reissuance of a certificate of public convenience and necessity authorizing Iroquois to construct and operate its previously approved Wright Interconnect Project (Project) and to abandon by lease the project capacity to Constitution Pipeline Company, LLC (Constitution) (Petition).¹

¹ Constitution Pipeline Co., LLC, 149 FERC ¶ 61,199 (2014) (Certificate Order), reh'd denied, 154 FERC ¶ 61,046 (2016), vacated sub nom. New York State Dep't of Envt. Conservation v. FERC, No.19-4338 (2d Cir. Nov. 18, 2021).

Iroquois states that the project scope has not changed. Specifically, Iroquois requests reissuance of certificate authority to: (1) construct a new receipt point interconnection with Constitution; (2) construct a new 21,800 horsepower transfer compressor station; (3) modify its Wright Compressor Station; (4) modify metering facilities; and (5) install various appurtenances, all located in Schoharie County, New York. The Project will create 650,000 dekatherms per day of transportation service which Iroquois will abandon by lease to Constitution. Iroquois updated the cost estimate for the Project to be $152,264,000, all as more fully set forth in the petition which is on file with the Commission and open for public inspection.

On January 8, 2026 in Docket Nos. CP13-499-006 and CP18-5-004, the Commission issued a Notice of Petition and Establishing Intervention Deadline (January 8 Notice) for Constitution's petition for reissuance of a certificate for its Constitution Pipeline Project and reaffirmation of the New York State Department of Environmental Conservation's waiver of authority under section 401 of the Clean Water Act. The Constitution Pipeline Project and the Wright Interconnect Project are inextricably linked. The January 8 Notice stated that “Until the details of Iroquois's petition are filed and more fully understood, the Commission cannot complete its analysis of the Petition.” With the filing of Iroquois' petition, we now can begin our analysis.

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

Any questions regarding the petition should be directed to Kimberly A.E. Pritchard, Vice President and General Counsel, Iroquois Pipeline Operating Company, One Corporate Drive, Suite 600, Shelton, Connecticut 06484, by phone at (203) 944-7032, or by email at Kimberly_pritchard@iroquois.com.

Public Participation

There are three ways to become involved in the Commission's review of this petition: you can file comments on the petition, you can protest the filing, and you can file a motion to intervene in the proceeding. There is no fee or cost for filing comments or intervening. The deadline for filing a motion to intervene is 5:00 p.m. Eastern Time on March 17, 2026. How to file protests, motions to intervene, and comments is explained below.

For public inquiries and assistance with making filings such as interventions, comments, or requests for rehearing, contact the Office of Public Participation (OPP) at (202) 502-6595 or OPP@ferc.gov.

Comments

Any person wishing to comment on the petition may do so. Comments may include statements of support or objections, to the petition as a whole or specific aspects of the petition. The more specific your comments, the more useful they will be.

Protests

Pursuant to sections 157.10(a)(4) ² and 385.211 ³ of the Commission's regulations under the NGA, any person ⁴ may file a protest to the petition. Protests must comply with the requirements specified in section 385.2001 ⁵ of the Commission's regulations. A protest may also serve as a motion to intervene so long as the protestor states it also seeks to be an intervenor.

² 18 CFR 157.10(a)(4).

³ 18 CFR 385.211.

⁴ Persons include individuals, organizations, businesses, municipalities, and other entities. 18 CFR 385.102(d).

⁵ 18 CFR 385.2001.

To ensure that your comments or protests are timely and properly recorded, please submit your comments on or before 5:00 p.m. Eastern Time on March 17, 2026.

There are three methods you can use to submit your comments or protests to the Commission. In all instances, please reference the Petition docket number CP13-502-003 in your submission.

(1) You may file your comments electronically by using the eComment feature, which is located on the Commission's website at www.ferc.gov under the link to Documents and Filings. Using eComment is an easy method for interested persons to submit brief, text-only comments on the petition;

(2) You may file your comments or protests electronically by using the eFiling feature, which is located on the Commission's website (www.ferc.gov) under the link to Documents and Filings. With eFiling, you can provide comments in a variety of formats by attaching them as a file with your submission. New eFiling users must first create an account by clicking on “eRegister.” You will be asked to select the type of filing you are making; first select “General” and then select “Comment on a Filing”; or

(3) You can file a paper copy of your comments or protests by mailing them to the following address below. Your written comments must reference the Petition docket number (CP13-502-003).

To file via USPS:Debbie-Anne A. Reese, Secretary, Federal Energy Regulatory Commission, 888 First Street NE, Washington, DC 20426.

To file via any other courier:Debbie-Anne A. Reese, Secretary, Federal Energy Regulatory Commission, 12225 Wilkins Avenue, Rockville, Maryland 20852.

The Commission encourages electronic filing of comments (options 1 and 2 above) and has eFiling staff available to assist you at (202) 502-8258 or FercOnlineSupport@ferc.gov.

The Commission considers all comments received about the petition in determining the appropriate action to be taken. However, the filing of a comment alone will not serve to make the filer a party to the proceeding. To become a party, you must intervene in the proceeding. For instructions on how to intervene, see below.

Interventions

Any person, which includes individuals, organizations, businesses, municipalities, and other entities,⁶ has the option to file a motion to intervene in this proceeding. Parties to the original docket (CP13-502-000) do not need to file a new motion to intervene. Only intervenors have the right to request rehearing of Commission orders issued in this proceeding and to subsequently challenge the Commission's orders in the U.S. Circuit Courts of Appeal.

⁶ 18 CFR 385.102(d).

To intervene, you must submit a motion to intervene to the Commission in accordance with Rule 214 of the Commission's Rules of Practice and Procedure ⁷ and the regulations under the NGA ⁸ by the intervention deadline for the petition, which is 5:00 p.m. Eastern Time on March 17, 2026. As described further in Rule 214, your motion to intervene must state, to the extent known, your position regarding the proceeding, as well as your interest in the proceeding. For an individual, this could include your status as a landowner, ratepayer, resident of an impacted community, or recreationist. You do not need to have property directly impacted by the petition in order to intervene. For more information about motions to intervene, refer to the FERC website at https://www.ferc.gov/resources/guides/how-to/intervene.asp.

⁷ 18 CFR 385.214.

⁸ 18 CFR 157.10.

There are two ways to submit your motion to intervene. In both instances, please reference the Petition docket number CP13-502-003 in your submission.

(1) You may file your motion to intervene by using the Commission's eFiling feature, which is located on the Commission's website (www.ferc.gov) under the link to Documents and Filings. New eFiling users must first create an account by clicking on “eRegister.” You will be asked to select the type of filing you are making; first select “General” and then select “Intervention.” The eFiling feature includes a document-less intervention option; for more information, visit https://www.ferc.gov/docs-filing/efiling/document-less-intervention.pdf.; or

(2) You can file a paper copy of your motion to intervene, along with three copies, by mailing the documents to the address below. Your motion to intervene must reference the Petition docket number CP13-502-003.

To file via USPS:Debbie-Anne A. Reese, Secretary, Federal Energy Regulatory Commission, 888 First Street NE, Washington, DC 20426.

To file via any other courier:Debbie-Anne A. Reese, Secretary, Federal Energy Regulatory Commission, 12225 Wilkins Avenue, Rockville, Maryland 20852,

The Commission encourages electronic filing of motions to intervene (option 1 above) and has eFiling staff available to assist you at (202) 502-8258 or FercOnlineSupport@ferc.gov.

Protests and motions to intervene must be served on the petitioner either by mail at: Kimberly A.E. Pritchard, Vice President and General Counsel, Iroquois Pipeline Operating Company, One Corporate Drive, Suite 600, Shelton, Connecticut 06484 or by email (with a link to the document) at Kimberly_pritchard@iroquois.com. Any subsequent submissions by an intervenor must be served on the petitioner and all other parties to the proceeding. Contact information for parties can be downloaded from the service list at the eService link on FERC Online. Service can be via email with a link to the document.

All timely, unopposed ⁹ motions to intervene are automatically granted by operation of Rule 214(c)(1).¹⁰ Motions to intervene that are filed after the intervention deadline are untimely, and may be denied. Any late-filed motion to intervene must show good cause for being late and must explain why the time limitation should be waived and provide justification by reference to factors set forth in Rule 214(d) of the Commission's Rules and Regulations.¹¹ A person obtaining party status will be placed on the service list maintained by the Secretary of the Commission and will receive copies (paper or electronic) of all documents filed by the petitioner and by all other parties.

⁹ The petitioner has 15 days from the submittal of a motion to intervene to file a written objection to the intervention.

¹⁰ 18 CFR 385.214(c)(1).

¹¹ 18 CFR 385.214(b)(3) and (d).

Tracking the Proceeding

Throughout the proceeding, additional information about the petition will be available from OPP at (202) 502-6595 or on the FERC website at www.ferc.gov using the “eLibrary” link as described above. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. For more information and to register, go to www.ferc.gov/docs-filing/esubscription.asp.

Intervention Deadline: 5:00 p.m. Eastern Time on March 17, 2026.

(Authority: 18 CFR 2.1)

Dated: February 24, 2026.
Carlos D. Clay,
Deputy Secretary.

[FR Doc. 2026-03948 Filed 2-26-26; 8:45 am]

BILLING CODE 6717-01-P